ENVIRONMENTAL PROTECTION AGENCY

[FRL-9535-01-OA]

Notification of Public Meeting

AGENCY: Environmental Protection Agency (EPA).

ACTION: Notification of public meeting.

SUMMARY: Pursuant to the Federal Advisory Committee Act (FACA), EPA hereby provides notice of a meeting of the Local Government Advisory Committee (LGAC) and the Small Communities Advisory Subcommittee (SCAS) on the date and times described below. This meeting will be open to the public. For information on public attendance and participation, please see the registration information under SUPPLEMENTARY INFORMATION section.

DATES: The SCAS will meet virtually February 17th, 2022, starting at 11:30 a.m. through 1:00 p.m. Eastern Time. The LGAC will meet virtually February 17th, 2022, starting at 2:00 p.m. through 4:30 p.m. Eastern Time.

FOR FURTHER INFORMATION CONTACT: Paige Lieberman, Designated Federal Officer (DFO), at LGAC@epa.gov or 202-564-9957.

Information on Accessibility: For information on access or services for individuals requiring accessibility accommodations, please contact Paige Lieberman by email at LGAC@epa.gov. To request accommodation, please do so five (5) business days prior to the meeting, to give EPA as much time as possible to process your request.

SUPPLEMENTARY INFORMATION:

I. General Information

Following the passage of the historic Bipartisan Infrastructure Law (BIL), the U.S. Environmental Protection Agency (EPA) will be making significant investments in the health, equity, and resilience of American communities. With unprecedented funding to support our national infrastructure, EPA will improve people's health and safety, help create good-paying jobs, and increase climate resilience throughout the country.

As EPA works to implement the law, EPA has asked the LGAC for their input on the following:

• How can we ensure that investments in water infrastructure promote sustainable and healthy communities?

• Are there specific recommendations for how EPA can prioritize equity, environmental justice, and the lived experience of those most impacted by water pollution?

• Are there technical resources or assistance that EPA can provide to help local governments upgrade their water and wastewater infrastructure?

• How can EPA make funding more accessible to local governments and more adaptable to the unique needs a community faces—particularly underserved communities?

• Are there specific recommendations for how EPA can include workforce development as part of the implementation of this bill?

• Do you have specific recommendations for how EPA can encourage consideration of climate impacts (e.g., GHG mitigation, adaptation, resilience) in the projects funded?

• Is there specific technical assistance that EPA should offer local governments to ensure they plan for, develop and build infrastructure that supports multiple community goals, including improving environmental and economic outcomes, supporting equity and environmental justice, and increasing communities' abilities to create climate resilience?

• Is there specific input you have for EPA as it develops the Clean School Bus program the in BIL?

During this meeting the LGAC will present, finalize and formally adopt final recommendations for charge questions noted above.

Prior to the LGAC meeting, the SCAS will convene to discuss and provide input from their perspective on the LGAC's draft recommendations for implementation of the Bipartisan Infrastructure Law (BIL).

All interested persons are invited to attend and participate. The SCAS will hear comments from the public from 12:45-1:00 p.m. (EST). The LGAC will hear comments from the public from 3:15-3:30 p.m. (EST). Individuals or organizations wishing to address the Committee or Subcommittee will be allowed a maximum of five (5) minutes to present their point of view. Also, written comments should be submitted electronically to LGAC@epa.gov for the LGAC and SCAS. Please contact the DFO at the email listed under FOR FURTHER INFORMATION CONTACT to schedule a time on the agenda by February 14, 2022. Time will be allotted on a first-come first-served basis, and the total period for comments may be extended if the number of requests for appearances requires it.

Registration: The meeting will be held virtually through an online audio and video platform. Members of the public who wish to participate should register by contacting the Designated Federal Officer (DFO) at LGAC@epa.gov by February 11, 2022. The agenda and other supportive meeting materials will be available online at https://www.epa.gov/ocir/local-government-advisory-committee-lgac and can be obtained by written request to the DFO. In the event of cancellation for unforeseen circumstances, please contact the DFO or check the website above for reschedule information.

Julian Bowles,
Director, State and Local Relations, Office of Congressional and Intergovernmental Relations.

[FR Doc. 2022-02300 Filed 2-2-22; 8:45 am]

BILLING CODE 6560-50-P